DEPARTMENT OF TRANSPORTATION

Federal Aviation Administration

14 CFR Part 39

[Docket No. FAA-2007-29061; Directorate Identifier 2006-NM-243-AD; Amendment 39-15362; AD 2008-03-12]

RIN 2120-AA64

Airworthiness Directives; McDonnell Douglas Model DC-8-11, DC-8-12, DC-8-21, DC-8-31, DC-8-32, DC-8-33, DC-8-41, DC-8-42, and DC-8-43 Airplanes; Model DC-8F-54 and DC-8F-55 Airplanes; Model DC-8-50, -60, -60F, -70, and -70F Series Airplanes; Model DC-9-10, -20, -30, -40, and -50 Series Airplanes; Model DC-9-81 (MD-81), DC-9-82 (MD-82), DC-9-83 (MD-83), and DC-9-87 (MD-87) Airplanes; and Model MD-88 Airplanes

AGENCY: Federal Aviation Administration (FAA), Department of Transportation (DOT).

ACTION: Final rule.

SUMMARY: The FAA is superseding an existing airworthiness directive (AD), which applies to certain McDonnell Douglas airplanes. The existing AD currently requires an initial general visual or dye penetrant inspection, repetitive dye penetrant inspections, and replacement, as necessary, of the rudder pedal bracket. The existing AD also currently requires, for certain airplanes, replacing the rudder pedal bracket assemblies with new, improved parts, which would terminate the repetitive inspections. For certain airplanes, this new AD requires initial inspection at a reduced threshold, removes an inspection option, and lengthens the repetitive inspection intervals. This AD results from reports of failures of the captain's rudder pedal brackets before reaching the initial inspection threshold identified in the existing AD. We are issuing this AD to prevent failure of the rudder pedal bracket assembly, which could result in the loss of rudder and braking control at either the captain's or first officer's position.

DATES: This AD becomes effective March 11, 2008.

The Director of the Federal Register approved the incorporation by reference of certain publications listed in the AD as of March 11, 2008.

On May 16, 2006 (71 FR 18201, April 11, 2006), the Director of the Federal Register approved the incorporation by reference of certain other publications listed in the AD.

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Wahib Mina, Aerospace Engineer, Airframe Branch, ANM-120L, FAA, Los Angeles Aircraft Certification Office, 3960 Paramount Boulevard, Lakewood, California 90712-4137; telephone (562) 627-5324; fax (562) 627-5210.

SUPPLEMENTARY INFORMATION:

Discussion

The FAA issued a notice of proposed rulemaking (NPRM) to amend 14 CFR part 39 to include an AD that supersedes AD 2006-07-25, amendment 39-14552 (71 FR 18201, April 11, 2006). The existing AD applies to certain McDonnell Douglas airplanes. That NPRM was published in the Federal Register on August 31, 2007 (72 FR 50284). That NPRM proposed to retain the requirements of AD 2006-07-25. That NPRM also, for certain airplanes, proposed to reduce certain initial inspection thresholds, remove an inspection option, and lengthen certain repetitive inspection intervals.

Comments

We provided the public the opportunity to participate in the development of this AD. We have considered the comments that have been received on the NPRM.

Request To Clarify Repetitive Inspections

Air Transport Association (ATA), on behalf of its member American Airlines, requests that we clarify paragraphs (h) and (l) of the NPRM. These paragraphs specify repetitive inspections to continue based on the part number of the replaced rudder pedal bracket assemblies in accordance with paragraph (g) or (k) of the NPRM. The commenters state that the referenced rudder pedal bracket assemblies should be clarified to indicate that repetitive inspections apply only to rudder pedal bracket assemblies that are of the same part number as the ones inspected.

We agree with the request for the reasons stated. The intent of the replacement in paragraphs (h) and (l) of the NPRM is to replace the rudder pedal bracket assemblies with a part that has the same part number as the part inspected. Therefore, we have revised paragraph (h) and (l) of the AD to replace the words “new part” with “same part number as the one inspected.”

Request To Clarify Inspection Criteria in Paragraph (j) of the NPRM

ATA, on behalf of its member ASTAR Air Cargo, requests that we clarify the inspection criteria in paragraph (j) of the NPRM. The commenters note that paragraph (j) of the NPRM specifies a special detailed inspection in accordance with McDonnell Douglas DC-8 Alert Service Bulletin A27-273, Revision 1, dated May 16, 1989; or Revision 5, dated February 18, 1993. The commenters point out that the service bulletins do not have any inspection criteria listed.

We agree with the commenters that the paragraph needs clarification. The intent of paragraph (j) of the AD is to specify a general visual inspection and penetrant inspection for Category 2 airplanes in accordance with McDonnell Douglas DC-8 Alert Service Bulletin A27-273, Revision 1. Revision 1 of that service bulletin contains the inspection criteria. The intent of paragraph (j) was to specify a special detailed inspection for Category 4 airplanes in accordance with Boeing Alert Service Bulletin DC9-27A307, Revision 7, dated August 29, 2006. Revision 7 of that service bulletin contains the inspection criteria. We have revised paragraph (j) of the AD to clarify the requirements.

Request To Clarify Compliance Time in Paragraph (j)(1) of the NPRM

ATA, on behalf of its member ASTAR Air Cargo, also notes that paragraph (j)(1) of the NPRM specifies a compliance time of within 40,000 total landings or 30 days after the effective date of the AD, whichever occurs later. The commenters state that paragraph (j)(1) should refer instead to 40,000 total landings on the installed part.

We agree with the commenters. McDonnell Douglas DC-8 Alert Service Bulletin A27-273, Revision 1, and Revision 5, specify a compliance time based on the accumulation of 40,000 total landings on the bracket assembly. We have revised paragraph (j)(1) of the AD to specify that the compliance time is 40,000 total landings on the installed part.

Conclusion

We have carefully reviewed the available data, including the comments that have been received, and determined that air safety and the public interest require adopting the AD with the changes described previously. We have determined that these changes will neither increase the economic burden on any operator nor increase the scope of the AD.

Costs of Compliance

There are about 1,840 airplanes of the affected design in the worldwide fleet. The following table provides the estimated costs for U.S. operators to comply with this AD. The replacements are applicable only to Model DC-9-10, -20, -30, -40, and -50 series airplanes; Model DC-9-81 (MD-81), DC-9-82 (MD-82), DC-9-83 (MD-83), and DC-9-87 (MD-87) airplanes; and Model MD-88 airplanes.

Estimated Costs
Action | Work hours | Average labor rate per hour | Parts | Cost per airplane | Number of U.S.- registered airplanes | Fleet cost
General visual inspection (required by AD 2006-07-25) | 3 | $80 | None | $240, per inspection cycle | 250 | $60,000, per inspection cycle.
Dye penetrant (special detailed) inspection (required by AD 2006-07-25) | 5 | 80 | None | $400, per inspection cycle | 946 | $378,400, per inspection cycle.
Replacements (required by AD 2006-07-25) | 9 | 80 | $9,466 | $10,186 | up to 946 | up to $9,635,956.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14552 (71 FR 18201, April 11, 2006) and by adding the following new airworthiness directive (AD):

2008-03-12 McDonnell Douglas: Amendment 39-15362. Docket No. FAA-2007-29061; Directorate Identifier 2006-NM-243-AD.

Effective Date

(a) This AD becomes effective March 11, 2008.

Affected ADs

(b) This AD supersedes AD 2006-07-25.

Applicability

(c) This AD applies to the airplanes identified in Table 1 of this AD, certificated in any category.

Table 1.—Applicability
McDonnell Douglas— | As identified in—
Model DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes; Model DC-8-71F, DC-8-72F, and DC-8-73F airplanes | McDonnell Douglas DC-8 Alert Service Bulletin A27-273, Revision 5, dated February 18, 1993.
Model DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; Model DC-9-81 (MD-81), DC-9-82 (MD-82), DC-9-83 (MD-83), and DC-9-87 (MD-87) airplanes; and Model MD-88 airplanes | Boeing Alert Service Bulletin DC9-27A307, Revision 7, dated August 29, 2006.

Unsafe Condition

(d) This AD results from reports of failures of the captain's rudder pedal brackets before reaching the initial inspection threshold identified in AD 2006-07-25. We are issuing this AD to prevent failure of the rudder pedal bracket assembly, which could result in the loss of rudder and braking control at either the captain's or first officer's position.

Compliance

(e) You are responsible for having the actions required by this AD performed within the compliance times specified, unless the actions have already been done.

Service Information and Airplane Categories

(f) The term “service bulletin,” as used in this AD, means the Accomplishment Instructions of the applicable service bulletin identified in Table 2 of this AD. The term “airplane category,” as used in this AD, means the category identified in Table 2 of this AD.

Table 2.—Service Information and Airplane Categories
For Model— | Called airplane category— | Use—
(1) DC-8-11, DC-8-12, DC-8-21, DC-8-31, DC-8-32, DC-8-33, DC-8-41, DC-8-42, and DC-8-43 airplanes; Model DC-8-51, DC-8-52, DC-8-53, and DC-8-55 airplanes; Model DC-8F-54 and DC-8F-55 airplanes; Model DC-8-61, DC-8-62, and DC-8-63 airplanes; Model DC-8-61F, DC-8-62F, and DC-8-63F airplanes; Model DC-8-71, DC-8-72, and DC-8-73 airplanes | 1 | McDonnell Douglas DC-8 Alert Service Bulletin A27-273, Revision 1, dated May 16, 1989; or Revision 5, dated February 18, 1993.
(2) DC-8-71F, DC-8-72F, and DC-8-73F airplanes | 2
(3) DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes | 3 | McDonnell Douglas DC-9 Alert Service Bulletin A27-307, Revision 1, dated May 16, 1989; or Boeing Alert Service Bulletin DC9-27A307, Revision 7, dated August 29, 2006, after the effective date of this AD, only Revision 7 may be used.
(4) DC-9-81 (MD-81), DC-9-82 (MD-82), DC-9-83 (MD-83), and DC-9-87 (MD-87) airplanes; and Model MD-88 airplanes | 4

Requirements of AD 2006-07-25

Initial Inspection Threshold

(g) For airplane categories 1, 3, and 4, prior to the accumulation of 40,000 total landings or within 30 days after July 5, 1989 (the effective date of AD 89-14-02, amendment 39-6245, which was superseded by AD 2006-07-25), whichever occurs later: Perform either a general visual inspection, dye penetrant inspection, or special detailed inspection (eddy current with dye penetrant or just dye penetrant), as applicable, for cracking of the captain's and first officer's rudder pedal bracket, part numbers (P/N) 5616067 and 5616068, respectively, in accordance with the Accomplishment Instructions of the applicable service bulletin specified in Table 2 of this AD. After the effective date of this AD, only the special detailed inspection specified in Boeing Alert Service Bulletin DC9-27A307, Revision 7, dated August 29, 2006, may be used for airplanes identified in Revision 7. For airplane category 4: Do the inspection required by this paragraph until the inspection required by paragraph (j) of this AD is accomplished.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) If an initial general visual inspection is accomplished, and no crack is found, perform a dye penetrant inspection of the rudder pedal bracket assembly within 180 days after the general visual inspection, and thereafter accomplish dye penetrant inspections at intervals not to exceed 12 months or 2,500 landings, whichever occurs earlier. For airplane categories 3 and 4, repeat at this interval until the inspection required by paragraph (k) of this AD is accomplished.

(2) If an initial dye penetrant inspection is accomplished, and no crack is found, accomplish repetitive dye penetrant inspections at intervals not to exceed 12 months or 2,500 landings, whichever occurs earlier. For airplane categories 3 and 4, repeat at this interval until the inspection required by paragraph (k) of this AD is accomplished.

(3) If an initial special detailed inspection is accomplished after the effective date of this AD, and no crack is found, repeat the inspection in accordance with paragraph (k) of this AD.

Corrective Action

(h) Except as provided by paragraph (l) of this AD: If any crack is detected during any inspection required by paragraph (g) or (j) of this AD, before further flight, remove and replace the rudder pedal bracket assembly in accordance with the service bulletin. Prior to the accumulation of 40,000 total landings after replacement with a part that has the same number as the part inspected, resume the repetitive inspections in accordance with paragraph (g) or (k) of this AD, as applicable. Doing the action required by paragraph (l) of this AD terminates the requirements of this paragraph for airplane category 4.

Terminating Action for Certain Airplanes

(i) For airplane categories 3 and 4: Do the actions in paragraphs (i)(1) and (i)(2) of this AD in accordance with the Accomplishment Instructions of the applicable service bulletin specified in Table 2 of this AD.

(1) Before the accumulation of 75,000 total landings on the captain's rudder pedal bracket assembly, P/N 5616067-501, or within 60 months after May 16, 2006, whichever occurs later: Remove the rudder pedal bracket assembly and replace it with new, improved P/N 5962903-501. Accomplishment of the replacement terminates the repetitive inspections of the captain's rudder pedal bracket assembly required by paragraphs (g), (h), (j), (k), and (l) of this AD.

(2) Before the accumulation of 75,000 total landings on the first officer's rudder pedal bracket assembly, P/N 5616068-501, or within 60 months after May 16, 2006, whichever occurs later: Remove the rudder pedal bracket assembly and replace it with new, improved P/N 5962904-501. Accomplishment of the replacement terminates the repetitive inspections of the first officer's rudder pedal bracket assembly required by paragraphs (g), (h), (j), (k), and (l) of this AD.

New Requirements of This AD

Revised Initial Inspection at Reduced Threshold for Certain Airplanes

(j) For airplane categories 2 and 4, at the applicable time specified in paragraph (j)(1), (j)(2) or (j)(3) of this AD: Do a general visual and penetrant inspection (for airplane category 2), and a special detailed inspection (for airplane category 4), as applicable, to detect cracking of the captain's and first officer's rudder pedal bracket, part numbers (P/N) 5616067 and 5616068, respectively, in accordance with the applicable service bulletin specified in Table 2 of this AD. Procedures for the dye penetrant inspection for airplane category 2 are contained only in the Accomplishment Instructions of McDonnell Douglas DC-8 Alert Service Bulletin A27-273, Revision 1, dated May 16, 1989. Procedures for the special detailed inspection are contained in Boeing Alert Service Bulletin DC9-27A307, Revision 7, dated August 29, 2006. Doing the applicable inspection required by this paragraph terminates the inspection requirements of paragraphs (g) and (h) of this AD for airplane category 4.

(1) For category 2 airplanes: Before the accumulation of 40,000 total landings on the installed part, or within 30 days after the effective date of this AD, whichever occurs later.

(2) For category 4 airplanes that have accumulated fewer than 25,000 total landings as of the effective date of this AD: Before the accumulation of 25,000 total landings, or within 3,000 landings after the effective date of this AD, whichever occurs later.

(3) For category 4 airplanes that have accumulated 25,000 or more total landings as of the effective date of this AD, do the next inspection at the applicable time in paragraph (j)(3)(i) or (j)(3)(ii) of this AD.

(i) For category 4 airplanes on which the corrective action specified in paragraph (h) of this AD has not been accomplished, do the inspection within 3,000 landings after the effective date of this AD.

(ii) For category 4 airplanes on which the corrective action required by paragraph (h) of this AD has been accomplished, do the inspection at the earlier of the following: The next repetitive interval required by paragraph (h) of this AD; 40,000 total landings after doing the corrective action required by paragraph (h) of this AD; or 3,000 landings after the effective date of this AD.

Repetitive Inspections at Revised Interval for Certain Airplanes

(k) For airplane categories 3 and 4: Repeat the special detailed inspection required by paragraph (g) or (j) of this AD thereafter at intervals not to exceed 3,000 landings. Doing the first repetitive inspection required by this paragraph terminates the repetitive inspection requirements of paragraph (g) of this AD for airplane categories 3 and 4.

Corrective Action Including Reduced Inspection Threshold for Certain Airplanes

(l) For airplane category 4: If any crack is detected during any inspection required by paragraph (g), (j), or (k) of this AD: Before further flight, remove and replace the rudder pedal bracket assembly with a part that has the same part number as the one inspected, in accordance with the applicable service bulletin specified in Table 2 of this AD. Before the accumulation of 25,000 total landings after replacement, resume the repetitive inspections in accordance with paragraph (k) of this AD. Doing the action in this paragraph terminates the requirements of paragraph (h) of this AD for airplane category 4.

Alternative Methods of Compliance (AMOCs)

(m)(1) The Manager, Los Angeles Aircraft Certification Office, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs, approved previously in accordance with AD 2006-07-25, amendment 39-14552; and AD 89-14-02, amendment 39-6245; are approved as AMOCs for the corresponding requirements of this AD.

Material Incorporated by Reference

(n) You must use the service information listed in Table 3 of this AD to perform the actions that are required by this AD, unless the AD specifies otherwise.

Table 3.—All Material Incorporated by Reference
Service Bulletin | Revision level | Date
McDonnell Douglas DC-8 Alert Service Bulletin A27-273 | 1 | May 16, 1989.
McDonnell Douglas DC-8 Alert Service Bulletin A27-273 | 5 | February 18, 1993.
McDonnell Douglas DC-9 Alert Service Bulletin A27-307 | 1 | May 16, 1989.
Boeing Alert Service bulletin DC9-27A307 | 7 | August 29, 2006.

(1) The Director of the Federal Register approved the incorporation by reference of McDonnell Douglas DC-8 Alert Service Bulletin A27-273, Revision 5, dated February 18, 1993; and Boeing Alert Service Bulletin DC9-27A307, Revision 7, dated August 29, 2006; in accordance with 5 U.S.C. 552(a) and 1 CFR part 51.

(2) On May 16, 2006 (71 FR 18201, April 11, 2006), the Director of the Federal Register approved the incorporation by reference of McDonnell Douglas DC-8 Alert Service Bulletin A27-273, Revision 1, dated May 16, 1989; and McDonnell Douglas DC-9 Alert Service Bulletin A27-307, Revision 1, dated May 16, 1989.

(3) Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on January 24, 2008.
Ali Bahrami,
Manager, Transport Airplane Directorate, Aircraft Certification Service.

[FR Doc. E8-1813 Filed 2-4-08; 8:45 am]

BILLING CODE 4910-13-P